DEPARTMENT OF STATE

[Public Notice 5100]

Shipping Coordinating Committee; Notice of Meetings

The Working Group on Radio Communications and Search and Rescue of the Subcommittee on Safety of Life at Sea will conduct open meetings at 1 p.m. on Thursday, August 11, 2005, in room 3328.

The meeting will be held at the Department of Transportation Headquarters Building, 400 Seventh Street, SW., Washington, DC 20950. The purpose of this meeting is to prepare for the Tenth Session of the International Maritime Organization (IMO) Subcommittee on Radiocommunications and Search and Rescue, which is scheduled for the week of March 6-10, 2006, at IMO headquarters in London, England.

The primary matters to be considered are:

—Maritime Safety Information for GMDSS.

—Development of a procedure for recognition of mobile satellite systems.

—Large passenger ship safety.

—Emergency radiocommunications, including false alerts and interference.

—Issues related to maritime security.

—Matters concerning Search and Rescue.

—Developments in maritime radiocommunication systems and technology.

—Planning for the 11th session of COMSAR.

Members of the public may attend these meetings up to the seating capacity of the room. Interested persons may seek information by writing: Mr. Russell S. Levin, U.S. Coast Guard Headquarters, Commandant (CG-622), Room 6611, 2100 Second Street, SW., Washington, DC 20593-0001, by calling: (202) 267-1389, or by sending Internet electronic mail to rlevin@comdt.uscg.mil and viewing http://www.navcen.uscg.gov/marcomms/imo/meetings.htm.

Dated: June 30, 2005.
Clayton Diamond,
Executive Secretary, Shipping Coordinating Committee, Department of State.

[FR Doc. 05-13358 Filed 7-6-05; 8:45 am]

BILLING CODE 4710-09-P